DEPARTMENT OF DEFENSE

Office of the Secretary

[Transmittal No. 14-01]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Sarah A. Ragan or Heather N. Harwell, DSCA/LMO, (703) 604-1546/(703) 607-5339.

The following is a copy of a letter to the Speaker of the House of Representatives, Transmittal 14-01 with attached Policy Justification and Sensitivity of Technology.

Dated: December 31, 2015.
Aaron Siegel,
Alternate OSD Federal Register Liaison Officer, Department of Defense.

BILLING CODE 5001-06-P

BILLING CODE 5001-06-C

Transmittal No. 14-01

Notice of Proposed Issuance of Letter of Offer Pursuant to Section 36(b)(1) of the Arms Export Control Act, as amended

(i) Prospective Purchaser: Turkey

(ii) Total Estimated Value:

Major Defense Equipment * | $62 million
Other | $ 8 million
TOTAL | $70 million

(iii) Description and Quantity or Quantities of Articles or Services under Consideration for Purchase: Joint Direct Attack Munition (JDAM) tail kits comprised of 400 GBU-31(V)1 for use with Mk84 bombs, 200 GBU-31(V)3 for use with BLU-109 bombs, 300 GBU-38 for use with Mk82 bombs, 100 GBU-54 Laser JDAM kits for use with Mk82 bombs, 200 BLU-109 Hard Target Penetrator Warheads, and 1000 FMU-152A/B fuzes. Non-MDE includes containers, support equipment, spare and repair parts, integration, test equipment, publications and technical documentation, personnel training and training equipment, U.S. Government and contractor engineering and technical support, and other related elements of logistics support.

(iv) Military Department: Air Force (YAF)

(v) Prior Related Cases, if any: FMS case YAD-$23M-24Jan13

(vi) Sales Commission, Fee, etc., Paid, Offered, or Agreed to be Paid: None

(vii) Sensitivity of Technology Contained in the Defense Article or

Defense Services Proposed to be Sold: See Attached Annex

(viii) Date Report Delivered to Congress: 02 DEC 2015

* As defined in Section 47(6) of the Arms Export Control Act.

POLICY JUSTIFICATION

Turkey—Joint Directed Attack Munitions (JDAM)

The Government of Turkey has requested a possible sale of Joint Direct Attack Munition (JDAM) tail kits comprised of 400 GBU-31(V)1 for use with Mk84 bombs, 200 GBU-31(V)3 for use with BLU-109 bombs, 300 GBU-38 for use with Mk82 bombs, 100 GBU-54 Laser JDAM kits for use with Mk82 bombs, 200 BLU-109 Hard Target Penetrator Warheads, and 1000 FMU-152A/B fuzes. Non-MDE includes containers, support equipment, spare and repair parts, integration, test equipment, publications and technical documentation, personnel training and training equipment, U.S. Government and contractor engineering and technical support, and other related elements of logistics support. The estimated cost is $70 million.

Turkey is a partner of the United States in ensuring peace and stability in the region. It is vital to the U.S. national interest to assist our NATO ally in developing and maintaining a strong and ready self-defense capability. This proposed sale is consistent with those objectives.

This sale will enhance the Turkish Air Force's ability to defend and provides a capability to contribute to future NATO operations. The proven reliability and compatibility of like-systems will foster increased interoperability between NATO and U.S. forces, and expand regional defenses to counter common threats to air, border, and shipping assets in the region. Turkey will have no difficulty absorbing these additional munitions into its armed forces.

The proposed sale of this equipment and support will not alter the basic military balance in the region.

The principal contractor will be the Boeing Company of St. Charles, Missouri. Any offset agreement will be defined in negotiations between the purchaser and the contractor.

The number of U.S. government and contractor representatives to support this program will be determined during negotiations with the Government of Turkey.

There will be no adverse impact on U.S. defense readiness as a result of this proposed sale.

Transmittal No. 14-01

Notice of Proposed Issuance of Letter of Offer Pursuant to Section 36(b)(1) of the Arms Export Control Act

Annex

Item No. vii

(vii) Sensitivity of Technology

1. The Joint Direct Attack Munition (JDAM) is a guidance kit that converts free-fall bombs into precision-guided munitions. By adding a new tail section containing Inertial Navigation System (INS)/Global Positioning System (GPS) guidance to existing bombs, the cost-effective JDAM provides highly accurate weapon delivery in any flyable weather. The INS, using updates from the GPS, guides the bomb to the target via the use of movable tail fins. With the addition of a laser guidance nose kit, the JDAM is capable of engaging moving targets. The JDAM all-up-round (AUR) is Unclassified; technical data for JDAM is classified up to Secret.

2. The GBU-31(v)1 is a 2000 pound class JDAM consisting of a JDAM tail kit, a Mk-84 warhead, and one of three fuze types: FMU-139, FMU-143, or FMU-152. A DSU-33 sensor can be added to the nose well of the weapon to give the GBU-31(v)1 JDAM AUR a height of burst (HOB) fusing option.

3. The GBU-31(v)3 is a 2000 pound class JDAM consisting of a JDAM tail kit, a BLU-109 hard target penetrator warhead, and one of three fuze types: FMU-139, FMU-143, or FMU-152.

4. The GBU-38 is a 500 pound class JDAM consisting of a JDAM tail kit, a Mk-82 warhead, and one of two fuze types: FMU-139 or FMU-152. A DSU-33 sensor can be added to the nose well of the weapon to give the GBU-38 JDAM AUR a HOB fusing option.

5. The GBU-54 is a 500 pound class JDAM consisting of a JDAM tail kit, a Mk-82 warhead, and one of two fuze types: FMU-139 or FMU-152. A DSU-38/B adds a Precision Laser Guidance Set (PLGS) to the GBU-54 JDAM AUR, giving the weapon system optional semi-active laser guidance in addition to its current GPS/INS guidance.

6. If a technologically advanced adversary were to obtain knowledge of the specific hardware and software elements, the information could be used to develop countermeasures that might reduce weapon system effectiveness or be used in the development of a system with similar or advanced capabilities.

7. A determination has been made that the recipient country can provide the same degree of protection for the sensitive technology being released as the U.S. Government. This sale is necessary in furtherance of the U.S. foreign policy and national security objectives outlined in the Policy Justification.

8. All defense articles and services listed in this transmittal have been authorized for release and export to the Government of Turkey.

[FR Doc. 2015-33251 Filed 1-5-16; 8:45 am]

BILLING CODE 5001-06-P